DEPARTMENT OF AGRICULTURE

Rural Business-Cooperative Service

Rural Housing Service

Rural Utilities Service

Farm Service Agency

7 CFR Part 1980

RIN 0570-AA94

Strategic Economic and Community Development

AGENCY: Rural Business-Cooperative Service, Rural Housing Service, Rural Utilities Service, Farm Service Agency, U.S. Department of Agriculture (USDA).

ACTION: Interim rule with public comment; reopening of public comment period.

SUMMARY: Through this action, the Rural Housing Service, the Rural Business-Cooperative Service, the Rural Utilities Service, and the Farm Service Agency are reopening the comment period for the interim rule, published on May 20, 2015 “Strategic Economic and Community Development”.

DATES: Comments on the interim rule that was published on May 20, 2015 (80 FR 28807) and effective June 19, 2015, must be received by September 18, 2015.

ADDRESSES: Submit your comments on this rule by any of the following methods:

• Federal eRulemaking Portal: http://www.regulations.gov. Follow the instructions for submitting comments.

• Mail: Submit written comments via the U.S. Postal Service to the Branch Chief, Regulations and Paperwork Management Branch, U.S. Department of Agriculture, STOP 0742, 1400 Independence Avenue SW., Washington, DC 20250-0742.

• Hand Delivery/Courier: Submit written comments via Federal Express Mail, or other courier service requiring a street address, to the Branch Chief, Regulations and Paperwork Management Branch, U.S. Department of Agriculture, 300 7th Street SW., 7th Floor, Washington, DC 20024.

All written comments will be available for public inspection during regular work hours at the 300 7th Street, SW., 7th Floor address listed above.

FOR FURTHER INFORMATION CONTACT: Farah Ahmad, Rural Business-Cooperative Service, U.S. Department of Agriculture, Stop 3254, 1400 Independence Avenue SW., Washington, DC 20250-0783, Telephone: 202-245-1169. Email: Farah.Ahmad@wdc.usda.gov.

SUPPLEMENTARY INFORMATION: On July 20, 2015, the Rural Housing Service, the Rural Business-Cooperative Service, the Rural Utilities Service, and the Farm Service Agency published an interim rule with comment in the Federal Register (80 FR 28807), “Strategic Economic and Community Development.” The interim rule identified that public comments were to be submitted by August 18, 2015. Unfortunately, the Web site Regulations.gov inadvertently closed the comment period on July 20, 2015, which was the closing date for comments on the information collection request. To compensate for closing the comment period early via the Regulations.gov Web site, this action provides commenters additional time to submit comments on the interim rule.

Dated: August 26, 2015.
Lisa Mensah,
Under Secretary, Rural Development.
Dated: August 27, 2015.
Michael Scuse,
Under Secretary, Farm and Foreign Agricultural Services.

[FR Doc. 2015-21898 Filed 9-3-15; 8:45 am]

BILLING CODE 3410-XY-P